DEPARTMENT OF HEALTH AND HUMAN SERVICES

Centers for Disease Control and Prevention

Board of Scientific Counselors, Office of Public Health Preparedness and Response, Board of Scientific Counselors (BSC, OPHPR); Notice of Meeting Cancellation

Cancellation: This notice was published in the Federal Register on September 23, 2014, Volume 79, Number 184, page 56806. The meeting previously scheduled to convene on October 27-28, 2014, has been cancelled.

Contact Person for More Information: Christye Brown, BSC Coordinator, Office of Science and Public Health Practice, Centers for Disease Control and Prevention, 1600 Clifton Road NE., Mailstop D-44, Atlanta, Georgia 30333, Telephone: (404) 639-7957; Facsimile: (404) 639-7977; Email: OPHPR.BSC.Questions@cdc.gov.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2014-25163 Filed 10-22-14; 8:45 am]

BILLING CODE 4163-18-P